DEPARTMENT OF DEFENSE

Department of the Air Force

Notice of Intent To Grant a Partially Exclusive Patent License

AGENCY: Department of the Air Force, Department of Defense.

ACTION: Notice of intent.

SUMMARY: Pursuant to the Bayh-Dole Act and implementing regulations, the United States Air Force (Air Force) is issuing this notice of intent to grant a partially exclusive patent license agreement with respect to the field of smart locked devices in wireless networks to Parcell Company, a C-Corporation duly organized, validly existing, and in good standing in the State of Ohio, having a place of business at 50 Dakota Avenue, Columbus, Ohio 43222.

DATES: Written objections must be filed no later than fifteen (15) calendar days after the date of publication of this Notice.

ADDRESSES: Submit written objections to Jeffrey V. Bamber, Air Force Materiel Command Law Office, AFMCLO/JAZ, 2240 B Street, Rm 258, Wright-Patterson AFB, OH 45433-7109; Facsimile: (937) 255-3733; Email: afmclo.jaz.tech@us.af.mil. Include Docket No. AIT-210504A-PL in the subject line of the message.

FOR FURTHER INFORMATION CONTACT: Jeffrey V. Bamber, Air Force Materiel Command Law Office, AFMCLO/JAZ, 2240 B Street, Rm 258, Wright-Patterson AFB, OH 45433-7109; Telephone (937) 904-5564; Facsimile: (937) 255-3733; or Email: afmclo.jaz.tech@us.af.mil.

SUPPLEMENTARY INFORMATION: The Department of the Air Force intends to grant the partially exclusive patent license agreement for the invention described in: U.S. Patent No. 10,111,094, entitled, “Wireless Intrusion Detection and Device Fingerprinting Through Preamble Manipulation,” filed August 14, 2015, and issued October 23, 2018.

Abstract of Patent

A method of establishing a hardware identity of a coordinating device in a wireless network is provided. A standard PHY preamble is modified to a preamble that can be received by the coordinating device having an expected hardware configuration. The modified PHY preamble is transmitted with an association request by a joining device. In response to not receiving a reply containing an association response from the coordinating device by the joining device, determining the hardware configuration of the coordinating device is not the expected hardware configuration. A further method of characterizing a hardware identity of a device in a wireless network is also provided. A request with a modified PHY preamble is transmitted to a device. If a reply is received from the device, characterizing the device as a first hardware type. And, if a reply is not received, characterizing the device as not the first hardware type.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Acting Air Force Federal Register Liaison Officer.

[FR Doc. 2021-12692 Filed 6-15-21; 8:45 am]

BILLING CODE 5001-10-P